DEPARTMENT OF HEALTH AND HUMAN SERVICES

Centers for Disease Control and Prevention

Public Health Service Act (PHS); Delegation of Authority

Notice is hereby given that I have delegated to the Director, National Center for Preparedness, Detection and Control of Infectious Diseases (NCPDCID), and the Director, Division of Global Migration and Quarantine (DGMQ), NCPDCID, with authority to redelegate, the authorities vested in the Director, Centers for Disease Control and Prevention, under sections 361(a), (b), (c), (d), and 362, Title III, of the PHS Act (Control of Communicable Diseases, 42 U.S.C. 264 and 265. The authority delegated under 361(a) does not include the authority to promulgate regulations.

This delegation became effective upon date of signature. In addition, I have affirmed and ratified any actions taken by the Director, NCPDCID, the Director, DGMQ, NCPDCID, or their subordinates which involved the exercise of authorities delegated herein prior to the effective date of the delegation.

Dated: May 20, 2008.
Julie Louise Gerberding,
Director, Centers for Disease Control and Prevention.

[FR Doc. E8-12176 Filed 5-30-08; 8:45 am]

BILLING CODE 4160-18-M